DEPARTMENT OF DEFENSE

Department of the Air Force

[Docket ID USAF-2008-0054]

Privacy Act of 1974; System of Records

AGENCY: Department of the Air Force, DoD.

ACTION: Notice to Add a System of Records Notice.

SUMMARY: The Department of the Air Force proposes to add a system of records notice to its inventory of records systems subject to the Privacy Act of 1974 (5 U.S.C. 552a), as amended.

DATES: The actions will be effective on January 29, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on December 17, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2008.
Morgan E. Frazier,
Alternate Federal Register Liaison Officer, Department of Defense.

F065 AFRC C

System name:

Air Reserve Order Writing System—Reserves Records.

System location:

Primary location: HQ Air Force Reserve Command, HQ AFRC, 155 Richard Ray Blvd., Robins AFB, GA 31098-1635.

Secondary locations: Teksouth Corporation, 1420 Northbrook Drive, #220, Gardendale, AL 35071-3869.

U.S. Marine Corps, Tech Services Org, 1500 E. Bannister Road, Kansas City, MO 64197-0001.

Categories of individuals covered by the system:

Air Force Reserve personnel and AFRC civilians.

Categories of records in the system:

Individual's name, Social Security Number (SSN), military grade, and personnel, pay, and accounting records.

Authority for maintenance of the system:

10 U.S.C. 8013, Secretary of the Air Force; DoD 5000.2-R, Mandatory Procedures for Major Defense Acquisition Programs (MDAPS) and Major Automated Information System (MAIS) Acquisition Programs; Air Force Policy Directive 65-6, Financial Management; Air Force Reserve Command Instruction 65-601, Budget Programming and Financial Management and E.O. 9397 (SSN).

Purpose(s):

To establish a mission critical information system that automates tasks and functions of order writing. Any duty related travel requires the individual to travel “on orders,” which is a detailed account of where the person is traveling to and from, as well as the financial designation of what type funds are used to pay for this type duty travel. Typically a request is initiated for a field unit to fulfill a military duty and/or travel in support of the Air National Guard or Air Force mission requirement and processed through the Air Force Reserve Command. The approval of the orders includes the allocation of funds necessary to support the cost of the request. Cost items that are typical for orders are basic military pay, per diem, subsistence, housing and travel expense. Tracking the use of the funds and the ability for reconciliation is an essential element.

Routine uses of records maintained in the system, including categories of users and the purposes of such uses:

In addition to those disclosures generally permitted under 5 U.S.C. 552a(b) of the Privacy Act of 1974, these records or information contained therein may specifically be disclosed outside the Department of Defense as a routine use pursuant to 5 U.S.C. 552a(3).

The “Blanket Routine Uses” published at the beginning of the Air Force's compilation of the systems of records notices apply to this system manager.

Storage:

Electronic storage media.

Retrievability:

Individual's name, Social Security Number (SSN), and/or order tracking number.

Safeguards:

Records are accessed by person(s) responsible for servicing the record system in performance of their official duties that are properly screened and cleared for need-to-know. Records are protected by standard Air Force access authentication procedures and by network system security software.

Retention and disposal:

Disposition is pending until National Archives and Record Administration approves proposed disposition schedule, until then treat as Permanent.

System manager(s) and address:

Department of the Air Force, Director of Financial Management Systems Application Branch, HQ AFRC/FMXS, 155 Richard Ray Pkwy., Robins AFB, GA 31098-1635.

Notification procedure:

Individuals seeking to determine whether this system of records contains information on themselves should address written inquiries to the Air Force Reserve Command Freedom of Information Act (FOIA) Manager, HQ AFRC/A6IE, 155 Richard Ray Blvd., Robins AFB, GA 31098-1635.

Written request should contain the individual's name, military grade, Social Security Number (SSN) and be signed.

Record access procedures:

Individuals seeking to access records about themselves contained in this system should submit written requests to the Air Force Reserve Command Freedom of Information Act (FOIA) Manager, HQ AFRC/A6IE, 155 Richard Ray Blvd., Robins AFB, GA 31098-1635.

Written request should contain the individual's name, military grade, Social Security Number (SSN) and be signed.

Contesting record procedures:

The Air Force rules for accessing records and for contesting contents and appealing initial agency determinations are published in Air Force Instruction 33-332; 32 CFR part 806b; or may be obtained from the system manager.

Record source categories:

Air National Guard, Air Force Reserve who request personnel services or assistance; Air Force Personnel Center, the Defense Finance and Accounting Service; the National Personnel Records Center; other activities of the Department of Defense; and correspondence from other interested persons or parties.

Exemptions claimed for the system:

None.

[FR Doc. E8-30867 Filed 12-29-08; 8:45 am]

BILLING CODE 5001-06-P